FEDERAL ELECTION COMMISSION

Sunshine Act Meeting

TIME AND DATE: Thursday, July 25, 2019 at 10:00 a.m.

PLACE: 1050 First Street NE, Washington, DC (12th Floor).

STATUS: This meeting will be open to the public.

MATTERS TO BE CONSIDERED:

Internet Ad Disclaimers Rulemaking Proposal for REG 2011-02 (Internet Communication Disclaimers and Definition of “Public Communication”)

Draft Advisory Opinion 2019-10: Price for Congress

Draft Advisory Opinion 2019-11: Pro-Life Democratic Candidate PAC

Draft Advisory Opinion 2019-13: Mary Jennings Hegar & MJ for Texas

Draft Advisory Opinion 2019-14: Arizona Libertarian Party

Notice of Availability for REG 2019-01 (Adding Valuable Information to Definition of Contribution)

Audit Division Recommendation Memorandum on the Ambulatory Surgery Center Association PAC (ASCAPAC) (A17-08)

Management and Administrative Matters

CONTACT PERSON FOR MORE INFORMATION: Judith Ingram, Press Officer, Telephone: (202) 694-1220.

Individuals who plan to attend and require special assistance, such as sign language interpretation or other reasonable accommodations, should contact Laura E. Sinram, Acting Secretary and Clerk, at (202) 694-1040, at least 72 hours prior to the meeting date.

Authority: Government in the Sunshine Act, 5 U.S.C. 552b.

Laura E. Sinram,
Acting Secretary and Clerk of the Commission.

[FR Doc. 2019-15578 Filed 7-18-19; 11:15 am]

BILLING CODE 6715-01-P